DEPARTMENT OF LABOR

Occupational Safety and Health Administration

[Docket No. OSHA-2007-0088]

Requests Nominations for Employer, Employee and Public Representatives To Serve on the Advisory Committee on Construction Safety and Health

AGENCY: Occupational Safety and Health Administration (OSHA), U.S. Department of Labor.

ACTION: OSHA requests nominations for employer, employee and public representatives to serve on the Advisory Committee on Construction Safety and Health (ACCSH).

SUMMARY: The Secretary of Labor invites interested parties to submit nominations, and materials in support of nominations, for membership on ACCSH.

DATES: Nominations for ACCSH must be submitted (postmarked, sent or received) by March 14, 2008.

ADDRESSES: You may submit nominations and supporting materials for ACCSH, identified with the agency name, OSHA, and the Docket No. OSHA-2007-0088 by any of the following methods:

Electronically: You may make electronic submissions at http://www.regulations.gov, which is the Federal eRulemaking Portal. Follow the instructions on-line for submitting comments.

Facsimile: If the nomination, including supporting materials, is not longer than 10 pages, you may fax it to the OSHA Docket Office at (202) 693-1648.

Mail, express delivery, hand delivery, messenger or courier service: If you want to submit a nomination or supporting materials, in hard copy, you must send three copies to the OSHA Docket Office, Room N-2625, U.S. Department of Labor, 200 Constitution Ave., NW., Washington, DC 20210; telephone (202) 693-2350 (OSHA's TTY number is (877) 889-5627). The deliveries will be accepted during the Department of Labor's and Docket Office's normal business hours, 8:15 a.m.-4:45 p.m., e.t.

Submission requirements, instructions, and cautions: See the SUPPLEMENTARY INFORMATION section below.

Assistance with on-line submissions and docket access: User Tips— http://www.regulations.gov/fdmspublic/component/main; or OSHA Docket Office, telephone (202) 693-2350 (OSHA's TTY number is (877) 889-5627).

FOR FURTHER INFORMATION CONTACT: Mr. Michael M.X. Buchet, OSHA, Directorate of Construction-Office of Construction Services, Room N-3468, U.S. Department of Labor, 200 Constitution Avenue, NW., Washington, DC. 20210; telephone 202-693-2020; e-mail address buchet.michael@dol.gov.

SUPPLEMENTARY INFORMATION: The Assistant Secretary of Labor for Occupational Safety and Health invites interested parties to submit nominations and materials in support of nominations for membership on ACCSH to OSHA.

Background: ACCSH is a continuing advisory committee established under Section 107(e) of the Contract Work Hours and Safety Standards Act (40 U.S.C. 3704(d)(4)), which is required to advise the Secretary in formulating construction safety and health standards and other regulations, as well as on policy matters arising in carrying out these requirements. In addition, 29 CFR 1912.3(a) provides that the Assistant Secretary shall consult ACCSH whenever the Agency proposes occupational safety or health standards for construction activities.

As originally constituted ACCSH had nine members, three each representing: contractors, primarily building trade employees, and the public, appointed by the Secretary of Labor. Section 29 CFR 1912.3(c) explains that pursuant to Section 105 of the Contract Work Hours and Safety Standards Act (40 U.S.C. 3706) it had been found necessary and proper in the public interest and in order to prevent possible injustice to conform ACCSH's composition to that of Occupational Safety and Health Act Section 7(b) (29 U.S.C. 656) advisory committees and to increase its membership to 15 members. Under 29 CFR 1912.3(b), the Assistant Secretary of Labor for Occupational Safety and Health appoints fifteen members to ACCSH. One of the members is appointed to chair the committee.

ACCSH operates in compliance with the provisions of the Construction Safety Act, section 7 of the OSH Act, and the Federal Advisory Committee Act (5 U.S.C. App. 2), and regulations issued pursuant to those statutes (29 CFR 1912, 41 CFR part 101-6 and 102-3). ACCSH meets two to four times per year for one or two days per meeting.

ACCSH Membership: ACCSH members appointed by the Assistant Secretary serve staggered two-year terms. The categories of ACCSH membership including the number of new members to be appointed in conjunction with this notice are as follows:

• Five members who are qualified by experience and affiliation to present the viewpoint of employers in the construction industry: Three employer representatives will be appointed.

• Five members who are similarly qualified to present the viewpoint of employees in the construction industry: Three employee representatives will be appointed.

• Two representatives of State safety and health agencies: None will be appointed; the current representatives' terms expire in November 2009.

• Two public members, qualified by knowledge and experience to make a useful contribution to the work of ACCSH, such as those who have professional or technical experience and competence with occupational safety and health in the construction industry: One public representative will be appointed.

• One representative designated by the Department of Health and Human Services (HHS), National Institute of Occupational Safety and Health (NIOSH): The HHS representative serves an indefinite term. The current HHS designated representative from NIOSH will continue to serve indefinitely.

ACCSH members serve two-year terms, unless they resign, become unable to serve, cease to be qualified to serve, or are removed by the Secretary [29 CFR 1912.3(e)]. However, an ACCSH member whose term has expired may continue to serve until a successor is appointed. ACCSH members may serve successive terms as long as they remain otherwise qualified. Any member absent from two consecutive meetings may be removed or replaced.

The Department of Labor is committed to equal opportunity in the workplace and seeks broad-based and diverse ACCSH membership. Nominations for a specific category of ACCSH membership should come from groups or people within the category. Others are invited and encouraged to submit endorsements in support of particular nominees.

Submission requirements: Nominations must include the following information:

(1) Nominee's resume or curriculum vitae, including prior membership on ACCSH or with other relevant organizations or associations;

(2) Categories of membership (employer, employee, public) for which the nominee can serve;

(3) A summary of background, experience and qualifications that addresses the nominee's suitability for each of the nominated membership categories;

(4) Articles or other documents the nominee has authored that indicate his or her knowledge, experience and expertise in occupational safety and health, particularly as it pertains to the construction industry;

(5) The nominee's contact information (address, phone, e-mail); and

(6) A written commitment from the nominee of his or her willingness to attend meetings regularly and participate in good faith, and a statement that the nominee has no apparent conflicts of interest that would preclude unbiased service on ACCSH.

Submission instructions and cautions: All nominations, supporting documents, attachments and other materials must identify the Agency name, OSHA, and include the Docket No. OSHA-2007-0088. You may submit all materials in the following ways: (1) Electronically at http://www.regulations.gov, which is the Federal eRulemaking Portal by following on-line instructions; or (2) by facsimile (FAX) to the OSHA Docket Office at (202) 693-1648 or (3) by sending three (3) hard copies to the OSHA Docket Office, Room N-2625, U.S. Department of Labor, 200 Constitution Ave., NW., Washington, DC 20210; telephone (202) 693-2350 (OSHA's TTY number is (877) 889-5627).

You may supplement electronic submissions by attaching uploaded electronic document files. Alternatively, you may supplement electronic submissions with hard copy documents delivered by U.S. Mail, express delivery, hand delivery, messenger or courier service to OSHA Docket Office. Hard copy supplemental materials must be submitted in triplicate. All the materials must clearly identify your electronic nomination by Agency, OSHA, nominee name, date, and Docket No. OSHA-2007-0088 so that the new materials can be attached to the correct nomination packet.

All submissions in response to this Federal Register notice are listed in the http://www.regulations.gov index; however, some information (e.g., copyrighted material) is not publicly available to read or download on-line. All submissions, including materials not available on-line (e.g. copyrighted material), are available for inspection and copying at the OSHA Docket Office (See ADDRESSES section.). All submissions, including personal information provided, will be posted without change. Because all materials are available to the public either on-line or through the OSHA Docket Office, OSHA cautions interested parties about submitting personal information such as social security numbers and dates of birth.

Materials submitted using U.S. Postal Service mail may experience significant delays because of security-related procedures. For information about security procedures concerning the delivery of materials by hand, express delivery, messenger or courier service, please contact the OSHA Docket Office at (202) 693-2350 (TTY (877) 889-5627).

Assistance with on-line submissions and with docket access: Guidance for submitting nominations and materials in support of nominations is available on-line at the http://www.regulations.gov Web site User Tips link and by telephone, (202) 693-2350, (TTY, (877) 889-5627) at the OSHA Docket Office. Similar information, about on-line access to Docket No. OSHA-2007-0088 and about access to materials not available on-line, can be found at the same two sources.

Member Selection: In addition to other relevant sources of information, the information received through this nomination process will assist the Assistant Secretary in making appointments to ACCSH. In selecting ACCSH members, the Assistant Secretary will consider individuals nominated in response to this Federal Register notice, as well as other qualified individuals. OSHA will publish the new ACCSH membership list in the Federal Register.

Federal Register Access: Electronic copies of this Federal Register document are available at http://www.regulations.gov and at http://www.gpoaccess.gov/fr/. Also this document, as well as news releases and other relevant information, is available at OSHA's Webpage, http://www.osha.gov.

Authority and Signature

Edwin G. Foulke, Jr., Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701, et seq.), the Federal Advisory Committee Act (5 U.S.C. App. 2), and Secretary of Labor's Order No. 5-2007 (72 FR 31159).

Signed at Washington, DC, this 7th day of February 2008.
Edwin G. Foulke, Jr.,
Assistant Secretary of Labor for Occupational Safety & Health.

[FR Doc. E8-2625 Filed 2-12-08; 8:45 am]

BILLING CODE 4510-26-P